DEPARTMENT OF DEFENSE

Office of Secretary

[Docket ID: DoD-2008-OS-0051]

Privacy Act of 1974; System of Records

AGENCY: National Security Agency/Central Security Service, DoD.

ACTION: Notice to Add a System of Records.

SUMMARY: The National Security Agency/Central Security Service is proposing to add an exempt system of records to its existing inventory of record systems subject to the Privacy Act of 1974, (5 U.S.C. 552a), as amended. The exemptions enhance the importance of the system of records for law enforcement purposes.

DATES: This proposed action would be effective without further notice on June 18, 2008 unless comments are received which result in a contrary determination.

ADDRESSES: Send comments to the National Security Agency/ Central Security Service, Office of Policy, 9800 Savage Road, Suite 6248, Ft. George G. Meade, MD 20755-6248.

FOR FURTHER INFORMATION CONTACT: Ms. Anne Hill at (301) 688-6527.

SUPPLEMENTARY INFORMATION: The National Security Agency systems of records notices subject to the Privacy Act of 1974 (5 U.S.C. 552a), as amended, have been published in the Federal Register and are available from the address above.

The proposed system report, as required by 5 U.S.C. 552a(r) of the Privacy Act of 1974, as amended, was submitted on April 4, 2008, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: May 5, 2008.
Patricia L. Toppings,
OSD Federal Register Liaison Officer, Department of Defense.

GNSA 23

System name:

NSA/CSS Operations Security Support Program and Training Files.

System location:

National Security Agency/Central Security Service, 9800 Savage Road, Ft. George G. Meade, MD 20755-6000.

Categories of individuals covered by the system:

DoD civilian employees, military personnel, government contractor personnel, and private individuals involved in activities relating to the National Operations Security Program.

Categories of records in the system:

Individual's name, Social Security Number (SSN), home and work address, home and work telephone numbers, fax number, security clearance information, conference material, training roster, training material, published articles, public source data and correspondence.

Authority for maintenance of the system:

National Security Agency Act of 1959, as amended; National Security Agency Act of 1959, as amended; E.O. 12333, United States Intelligence Activities; E.O. 12958, Classified National Security Information; DoD Directive 5100.20, The National Security Agency and the Central Security Service; DoD Directive 5200.39, Security, Intelligence, and Counterintelligence Support to Acquisition Program Protection; DoD Directive 5205.2, DoD Operations Security Program; National Security Decision Directive 298, National Operations Security Program; NSA Policy Number 5-12, NSA/CSS Operations Security Program; and E.O. 9397 (SSN).

Purpose(s):

To maintain records relating to the operations of the National Operations Security Program and the Interagency Operations Security Support Staff. This system will provide logistical support to conferences, symposia, training and is also used as a management tool for statistical research and program evaluations.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD `Blanket Routine Uses' published at the beginning of the NSA/CSS's compilation of record systems also apply to this record system.

Policies and practices for storing, retrieving, accessing, retaining, and disposing of records in the system:

Storage:

Paper records in files folders and electronic storage media.

Retrievability:

Individual's name, Social Security Number (SSN), address, organization and/or affiliation, dates of visit, type of badge issued, and conference name and date.

Safeguards:

Secured by a series of guarded pedestrian gates and checkpoints. Access to facilities is limited to security cleared personnel and escorted visitors only. With the facilities themselves, access to paper and computer printouts are controlled by limited access facilities and lockable containers. Access to electronic means is controlled by computer password protection.

Retention and disposal:

Records are periodically reviewed for retention. Records having no evidential, informational, or historical value or not required to be permanently retained are destroyed. Visitor passes and campus access files are destroyed when 15 years old. Training conference administrative materials are destroyed 5 years after conference. Training material is destroyed when no longer needed. Destruction is by pulping, burning, shredding, or erasure or destruction of magnetic media.

System manager and address:

Deputy Associate Director of Policy and Records, National Security Agency/Central Security Service, 9800 Savage Road, Suite 6248, Ft. George G. Meade, MD 20755-6248.

Notification procedure:

Individuals seeking to determine if records about themselves are contained in this record system should address written inquiries to the National Security Agency/Central Security Service, Freedom of Information Act and Privacy Act Office, 9800 Savage Road, Suite 6248, Ft. George G. Meade, MD 20755-6248.

Written inquires should include individual's full name, address, and Social Security Number (SSN).

Record access procedures:

Individuals seeking access to records about themselves contained in this record system should address written inquiries to the National Security Agency/Central Security Service, Freedom of Information Act and Privacy Act Office, 9800 Savage Road, Suite 6248, Ft. George G. Meade, MD 20755-6248.

Written inquires should include individual's full name, address, and Social Security Number (SSN).

Contesting record procedures:

The NSA/CSS rules for contesting contents and appealing initial determinations are published at 32 CFR part 322 or may be obtained by written request addressed to the Deputy Associate Director for Policy and Records, National Security Agency/Central Security Service, Ft. George G. Meade, MD 20755-6000.

Record source categories:

From individuals, U.S. agencies and organizations, media including periodicals, newspapers, and broadcast transcripts, public and classified reporting and correspondence.

Exemptions claimed for the system:

Records maintained solely for statistical research or program evaluation purposes and which are not used to make decisions on the rights, benefits, or entitlement of an individual except for census records which may be disclosed under 13 U.S.C. 8, may be exempt pursuant to 5 U.S.C. 552a(k)(4).

An exemption rule for this exemption has been promulgated in accordance with requirements of 5 U.S.C. 553(b)(1), (2) and (3), (c) and (e) and published in 32 CFR part 322. For additional information contact the system manager.

[FR Doc. E8-11157 Filed 5-16-08; 8:45 am]

BILLING CODE 5001-06-P